DEPARTMENT OF AGRICULTURE

Agricultural Marketing Service

[Docket Number FV-05-304]

United States Standards for Grades of Fresh Asparagus

AGENCY: Agricultural Marketing Service, USDA.

ACTION: Notice.

SUMMARY: The Agricultural Marketing Service (AMS) of the Department of Agriculture (USDA) is revising the voluntary United States Standards for Grades of Fresh Asparagus. Specifically, AMS is revising the standards to allow purple and white asparagus to be graded using the standards. This change will bring the standards for asparagus in line with current marketing practices, thereby, improving the usefulness of the standards in serving the industry.

DATES: Effective Date: February 23, 2006.

FOR FURTHER INFORMATION CONTACT: Cheri L. Emery, Standardization Section, Fresh Products Branch, Fruit and Vegetable Programs, Agricultural Marketing Service, U.S. Department of Agriculture, 1400 Independence Ave., SW., Room 1661, South Building, Stop 0240, Washington, DC 20250-0240, (202) 720-2185, fax (202) 720-8871, or e-mail Cheri.Emery@usda.gov. The revised United States Standards for Grades of Fresh Asparagus is available either from the above address or by accessing the AMS, Fresh Products Branch Web site at: http://www.ams.usda.gov/standards/stanfrfv.htm.

SUPPLEMENTARY INFORMATION: Section 203(c) of the Agricultural Marketing Act of 1946 (7 U.S.C. 1621-1627), as amended, directs and authorizes the Secretary of Agriculture “To develop and improve standards of quality, condition, quantity, grade and packaging and recommend and demonstrate such standards in order to encourage uniformity and consistency in commercial practices.” AMS is committed to carrying out this authority in a manner that facilitates the marketing of agricultural commodities and makes copies of official standards available upon request. The United States Standards for Grades of Fruits and Vegetables not connected with Federal Marketing Orders or U.S. Import Requirements, no longer appear in the Code of Federal Regulations, but are maintained by USDA/AMS/Fruit and Vegetable Programs.

AMS is revising the voluntary United States Standards for Grades of Fresh Asparagus using the procedures that appear in Part 36, Title 7 of the Code of Federal Regulations (7 CFR part 36).

Background

Prior to undertaking detailed work to develop a proposed revision to the standards, AMS published a notice on March 29, 2005 in the Federal Register (70 FR 15817) soliciting comments on a possible revision of the United States Standards for Grades of Fresh Asparagus. Based on comments received and information gathered, a second notice was published on October 6, 2005 in the Federal Register (70 FR 58370) proposing to revise the standards to allow purple and white asparagus to be graded using the standards. In response to this notice AMS received two comments from Peruvian asparagus organizations supporting the proposed revision. The comments are available by accessing the AMS, Fresh Products Branch Web site at: http://www.ams.usda.gov/standards/stanfrfv.htm

The two comments from Peruvian asparagus organizations supporting the proposed revision stated that the revision would facilitate the marketing of fresh asparagus. Based on comments received and information gathered, AMS is revising the fresh asparagus standards to allow purple and white asparagus to be graded using the U.S. standards.

The official grade of a lot of fresh asparagus covered by these standards will be determined by the procedures set forth in the Regulations Governing Inspection, Certification, and Standards of Fresh Fruits, Vegetables and Other Products (Sec. 51.1 to 51.61).

The United States Standards for Grades of Fresh Asparagus will be effective 30 days after publication of this notice in the Federal Register.

Authority: 7 U.S.C. 1621-1627.

Dated: January 18, 2006.
Lloyd C. Day,
Administrator, Agricultural Marketing Service.

[FR Doc. E6-782 Filed 1-23-06; 8:45 am]

BILLING CODE 3410-02-P